DEPARTMENT OF TRANSPORTATION

National Highway Traffic Safety Administration

Reports, Forms and Record Keeping Requirements; Agency Information Collection Activity Under OMB Review

AGENCY: National Highway Traffic Safety Administration (NHTSA), U.S. Department of Transportation (DOT).

ACTION: Notice.

SUMMARY: In compliance with the Paperwork Reduction Act of 1995 (44 U.S.C. 3501 et seq.), this notice announces that the Information Collection Request (ICR) abstracted below has been forwarded to the Office of Management and Budget (OMB) for review and comment. The ICR describes the nature of the information collections and their expected burden. The Federal Register Notice with a 60-day comment period was published on February 27, 2012 (77 FR 11626). No comments were received on this matter.

This document describes the collection of information for which NHTSA intends to seek OMB approval. The collection of information described is the “Consolidated Child Restraint System Registration, Labeling and Defect Notification.” (OMB Control Number: 2127-0576)

DATES: Comments must be submitted on or before January 22, 2014.

FOR FURTHER INFORMATION CONTACT: Ms. Cristina Echemendia at U.S. Department of Transportation, NHTSA, 1200 New Jersey Avenue SE., West Building Room W43-447, NVS-113, Washington, DC 20590. Mrs. Cristina Echemendia's telephone number is (202) 366-6345 and fax number is (202) 366-7002.

SUPPLEMENTARY INFORMATION:

National Highway Traffic Safety Administration

Title: Consolidated Child Restraint System Registration, Labeling and Defect Notifications.

OMB Control Number: 2127-0576.

Type of Request: Label revision of a currently approved collection.

Abstract: A final rule published on February 27, 2012 (77 FR 11626) amended the Federal motor vehicle safety standard for child restraint systems (CRSs) to expand its applicability to child restraints sold for children weighing up to 80 pounds (lb). The final rule also added a sentence to the printed instructions and labeling of certain CRSs (those that have internal harnesses, and that are recommended for older children). Currently, child restraint manufacturers are required to provide printed instructions with step by-step information on how the restraint is to be used. Without proper use, the effectiveness of these systems is greatly diminished. Each CRS must also have a permanent label.¹ A permanently attached label gives “quicklook” information on whether the restraint meets the safety requirements, recommended installation and use, and warnings against misuse. The requested revision is to add a sentence to the existing instructions brochure and labeling that will inform the consumer that the lower anchors of a Lower Anchors and Tethers for Children (LATCH) system may only be used for children weighing “x” lb or less, where the “x” value depends on the weight of the CRS. The purpose of this label is to reduce consumer confusion about using LATCH, and to assure that the lower anchors will be able to withstand the forces generated by the child and CRS in virtually all crashes.

¹ FMVSS No. 213 also requires child restraint manufacturers to provide owner-registration cards and to keep records relating to owner registration information, so that owners can be notified about noncompliance or defect recall campaigns. These owner registration requirements are not affected by the final rule (77 FR 11626).

Under the final rule, CRSs equipped with internal harnesses to restrain the child and with components to attach to a child restraint anchorage system, will be required to be labeled with a child weight limit for using the lower anchors to attach the child restraint to the vehicle. The child weight limit depends on the weight of the CRS. NHTSA anticipates a change to the hour burden or costs associated with the revised child restraint labels and written instructions. Child restraint manufacturers produce, on average, a total of approximately 4,500,000 child restraints per year. The label would apply to approximately 50 percent of the total annual production (2,250,000 units). The hour burden associated with the revised label consist of the child restraint manufacturer: (1) Determining the maximum allowable child weight when using the lower LATCH anchor attachments as a means of installation and (2) adding this information on an existing label and instruction manual. We estimate 2 seconds of additional burden per child restraint for the determination of the maximum allowable weight and the addition of the information on the existing label and instruction manual (2 sec × 2,250,000 units = 4,500,000 seconds = 1,250 hours).

Affected Public: Businesses, Individuals and Households.

Estimated Additional Annual Burden: 1,250 hours.

ADDRESSES: Send comments, within 30 days, to the Office of Information and Regulatory Affairs, Office of Management and Budget, 725 17th Street NW., Washington, DC 20503, Attention NHTSA Desk Officer.

Comments are invited on: Whether the proposed collection of information is necessary for the proper performance of the functions of the Department, including whether the information will have practical utility; the accuracy of the Departments estimate of the burden of the proposed information collection; ways to enhance the quality, utility and clarity of the information to be collected; and ways to minimize the burden of the collection of information on respondents, including the use of automated collection techniques or other forms of information technology. A Comment to OMB is most effective if OMB receives it within 30 days of publication.

Christopher J. Bonanti,
Associate Administrator for Rulemaking.

[FR Doc. 2013-30370 Filed 12-20-13; 8:45 am]

BILLING CODE 4910-59-P